NATIONAL AERONAUTICS AND SPACE ADMINISTRATION

[Notice: 04-103]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted within 60 calendar days from the date of this publication.

ADDRESSES: All comments should be addressed to Ms. Kathleen Shaeffer, Code V, National Aeronautics and Space Administration, Washington, DC 20546-0001.

FOR FURTHER INFORMATION CONTACT: Requests for additional information or copies of the information collection instrument(s) and instructions should be directed to Ms. Kathleen Shaeffer, Acting NASA Reports Officer, NASA Headquarters, 300 E Street, SW., Code V, Washington, DC 20546, (202) 358-1230, kshaeff1@hq.nasa.gov.

SUPPLEMENTARY INFORMATION:

I. Abstract

The National Aeronautics and Space Administration (NASA) is requesting Office of Management and Budget approval for a new information collection which will be used to evaluate the need for NASA to establish a central repository of reusable components for earth science data systems. The NASA Earth Science Data Systems Working Group, who will be collecting the information, needs to better understand the community's needs with respect to such a repository before it can be built.

II. Method of Collection

Collection of information will be entirely through an online Web-based questionnaire in order to minimize respondent burden.

III. Data

Title: Earth Science Software Reuse.

OMB Number: 2700-XXXX.

Type of review: New collection.

Affected Public: Federal Government; Business or other for-profit; Not-for-profit institutions.

Estimated Number of Respondents: 60.

Estimated Time Per Response: 20 minutes.

Estimated Total Annual Burden Hours: 20.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Patricia L. Dunnington,
Chief Information Officer.

[FR Doc. 04-19043 Filed 8-18-04; 8:45 am]

BILLING CODE 7510-01-P